DEPARTMENT OF TRANSPORTATION

Federal Transit Administration

[Docket No. FTA-2021-0006]

Agency Information Collection Activity Under OMB Review

AGENCY: Federal Transit Administration, DOT.

ACTION: Notice of request for comments.

SUMMARY: In accordance with the Paperwork Reduction Act of 1995, this notice announces the intention of the Federal Transit Administration (FTA) to request the Office of Management and Budget (OMB) approve the extension of a currently approved information collection, previously initiated as a request for emergency OMB approval. The FTA is collecting this information to inform FTA actions to support the transit industry's COVID-19 recovery efforts. The information collection requirements describe the nature of the information collection and their expected burdens.

DATES: Comments must be submitted before August 23, 2021.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments, if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov.

Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Candace Key, Office of Transit Safety and Oversight—Office of System Safety, 1200 New Jersey Avenue SE, Mail Stop TSO-10, Washington, DC 20590 (202) 366-1783 or candace.key@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Transit COVID Response Program

(OMB Number: 2132-0581)

Background: COVID-19 continues to pose significant challenges for the transit industry. Numerous transit providers have suspended service and a greater number have reduced service. Yet, throughout the COVID-19 public health emergency, transit agencies across the country continue to provide millions of trips to lifeline services, including transporting healthcare personnel and other essential workers on the front line of the Nation's COVID-19 response. Transit agencies also offer additional essential services to support communities during the public health emergency, such as meal delivery and Wi-Fi access in underserved areas. Many transit agencies are also serving a critical role in providing free or reduced-cost transportation to vaccination sites and appointments, and using their facilities and vehicles as vaccination sites. Accordingly, the U.S. Department of Homeland Security's Cybersecurity and Infrastructure Security Agency designates transit workers as essential critical infrastructure workers.

Transit agencies and other stakeholders have expressed concerns about the risk of COVID-19 to the transit industry and, along with the FTA, have taken steps to address these concerns. Numerous transit agencies have implemented mitigations to limit the transmission of SARS-CoV-2, the virus that causes COVID-19, among their workers and within their systems. Despite these efforts, frontline transit workers remain at high risk for work-related exposure to SARS-CoV-2 because their work-related duties must be performed on-site and involve being in close proximity (<6 feet) to the public or to coworkers. In addition, many transit workers fall within racial and socioeconomic demographics that are at increased risk of getting sick and dying from COVID-19.

In December 2020, the U.S. Food and Drug Administration (FDA) issued Emergency Use Authorizations (EUA) for the Pfizer-BioNTech and Moderna COVID-19 vaccines, and in February 2021 issued an EUA for the Johnson & Johnson (Janssen) COVID-19 vaccine. COVID-19 vaccines are available to all individuals, 12 years and older, in every U.S. State and over half of eligible individuals have received at least one vaccine shot. However, challenges concerning vaccine access equity and vaccine confidence continue to pose obstacles to reaching national vaccination goals. As a result, it may take many months before sufficiently-high numbers of frontline transit workers will be vaccinated, though their communities will continue to rely on them to provide critical transportation services every day—including transportation to vaccination sites.

On January 21, 2021, President Biden issued Executive Order 13998 titled “Promoting COVID-19 Safety in Domestic and International Travel” “to save lives and allow all Americans, including the millions of people employed in the transportation industry, to travel and work safely,” requiring immediate Federal action to mandate masks on public forms of transportation, including transit. On January 29, 2021, the CDC issued an Order requiring the wearing of masks by travelers, including on public transportation, to prevent spread of the virus that causes COVID-19. The CDC Order requires transportation operators to require that all persons wear masks when boarding, disembarking, and for the duration of travel, with certain exemptions. Operators of transportation hubs, which include bus terminals and subway stations, must require all persons to wear a mask when entering and on the premises of a transportation hub. Subsequently, the Transportation Security Administration (TSA) issued a Security Directive on February 1, 2021 that implements the CDC Order that is effective through September 13, 2021. The FTA published a notice of request for emergency OMB approval on March 5, 2021. FTA created an information collection system for respondents to provide the required information to FTA. The system was opened to respondents on March 15, 2021 and the first reports were due on April 16, 2021.

The FTA plays a critical role in providing risk-based guidance and support for the COVID-19 recovery efforts of the transit industry. Accordingly, the FTA has required that respondents provide the following information using a fillable electronic online application: Transit Worker Counts: Total number of transit operators, other frontline essential personnel, and other workers during the reporting period.

COVID-19 Impacts on Transit Agency Service Levels: Yes or no responses to indicate if the agency suspended service, reduced service, or operated at normal levels during the reporting period.

COVID-19 Impacts on Transit Workforce: Cumulative counts of transit worker COVID-19 positives, fatalities, recoveries, and unvaccinated employees during the reporting period, and yes or no responses on whether the agency is requiring workers to be vaccinated, whether the agency has implemented the CDC Order and TSA Security Directive requiring workers and passengers to wear masks, and whether the agency is using FTA funds to provide vaccine access services.

Summary of Comments Received

FTA received comments to its notice of request for emergency OMB approval from eight respondents during the comment period.

Five respondents noted concerns with providing data on the number of vaccinated workers. FTA has clarified that while it expects all respondent agencies to collect and submit COVID-19 data for all transit workers, if an agency or its contractor is prohibited by State or local laws from collecting data on whether their employees have been vaccinated, the respondent should not include these workers in the “Number of Workers Not Vaccinated” field. Further, the form allows agencies to leave this form blank in such a situation.

Two respondents noted concerns with collecting information on worker COVID-19 cases, recoveries, and fatalities. Agencies should submit COVID-19 data, to the extent that they are able to compile such information, for all workers (employees and contractors) that support the operation of the agency. FTA encourages agencies to report data based on their current knowledge and understanding of the COVID-19 impacts on their organization.

Two respondents noted concerns with the feasibility of collecting and reporting, and the level of effort required to collect and report required data points. In an effort to reduce the burden on reporters, FTA has leveraged its existing Transit Integrated Appian Development Platform, the platform that hosts the National Transit Database (NTD), to facilitate reporting through an online application. FTA also has made available a Recurring Form Template which was developed to assist Section 5311 recipients with collecting data on behalf of their subrecipients in support of the Transit COVID-19 Response Program Information Collection online application. The template includes the same fields and options as the Recurring Form in the online application.

One respondent requested clarification on how FTA will handle late reports. Respondents may submit and/or revise their responses at any time in either the Baseline Form or the Recurring Form to address errors or if updated data becomes available.

One respondent requested the exclusion of Section 5311 subrecipients from the reporting requirement. The reporting requirement is a condition of FTA funding assistance.

One respondent requested a 30-day extension of the comment period for the notice of request for emergency OMB approval. Respondents will have the opportunity to provide written comments to this notice.

Respondents: FTA will require this information, pursuant to 49 U.S.C. 5334, from recipients and subrecipients of FTA funds under the Urbanized Area Formula Funding program (49 U.S.C. 5307) or the Formula Grants for Rural Areas program (49 U.S.C. 5311) that operate transit systems or pass through funds to sub-recipients that operate transit systems. Recipients of FTA funds under the Enhanced Mobility of Seniors and Individuals with Disabilities program (49 U.S.C. 5310) may provide this information on a voluntary basis.

Estimated Average Total Annual Respondents: 2,390 respondents.

Estimated Average Total Responses: 28,680.

Estimated Annual Burden Hours: 10,356.

Frequency: Monthly through December 31, 2021, or the duration of the COVID-19 public health emergency, whichever comes first.

Nadine Pembleton,
Director Office of Management Planning.

[FR Doc. 2021-13352 Filed 6-23-21; 8:45 am]

BILLING CODE P